DEPARTMENT OF THE INTERIOR

Bureau of Land Management

[LLNMA01000 L14300000.KD0000; NMNM 123371]

Notice of Realty Action: Competitive Sale of Public Lands in Sandoval County, NM

AGENCY: Bureau of Land Management, Interior.

ACTION: Notice of realty action.

SUMMARY: The Bureau of Land Management (BLM) proposes to offer, by competitive sale, a parcel of Federally owned land near Golden, New Mexico, containing approximately 130.56 acres. The sale will be subject to the applicable provisions of Section 203 of the Federal Land Policy and Management Act of 1976 (FLPMA), respectively, and the BLM land sale regulations. The purpose of the sale is to dispose of lands which are difficult and uneconomic to manage. The sale will be conducted in Albuquerque, New Mexico, as a competitive sealed bid auction in which interested bidders must submit written sealed bids equal to or greater than the appraised fair market value of the land.

DATES: Interested parties may submit comments regarding the proposed sale to the Field Manager, Rio Puerco Field Office, on or before March 21, 2011. Sealed bids must be received no later than 4:30 p.m., Mountain Standard Time on April 5, 2011. Other deadline dates for the receipt of payments, and arranging for certain payments to be made by electronic transfer, are specified in “ADDITIONAL INFORMATION” section of this Notice. The BLM will open the sealed bids at the BLM, Rio Puerco Field Office, 435 Montaño NE, Albuquerque, New Mexico, at 10 a.m. on April 6, 2011 which will be the sale date.

ADDRESSES: Written comments regarding the proposed sale, as well as sealed bids to be submitted to the BLM, should be sent to the Field Manager, BLM, Rio Puerco Field Office, 435 Montaño, NE., Albuquerque, New Mexico 87107. Additional information including bid forms, times, and bidding procedures will be available in an Invitation for Bids available in the Rio Puerco Field Office. More detailed information regarding the proposed sale and the lands involved, including maps and current appraisal may be reviewed during normal business hours between 7:45 a.m. and 4:30 p.m. at the Rio Puerco Field Office at the above address.

FOR FURTHER INFORMATION CONTACT: Connie Maestas, Realty Specialist, (505) 761-8907 or via e-mail at cmaestas@nm.blm.gov.

SUPPLEMENTARY INFORMATION: The following public land, situated in Sandoval County, New Mexico, has been authorized and designated for disposal in the BLM Rio Puerco Resource Management Plan, dated November 1986, maintained and reprinted in October 1992, and, therefore, meets the disposal qualifications of Section 203 of the FLPMA (90 Stat. 2750, 43 U.S.C. 1701 and 1713).

New Mexico Principal Meridian

T. 12 N., R. 6 E.,

Sec. 23, lots 1 to 4, inclusive.

The area described contains 130.56 acres in Sandoval County, according to the official plat of the survey of the said land, on file in the BLM.

This land will be offered through competitive sale procedures pursuant to 43 CFR 2711.3-1. The purpose of this sale is to dispose of a tract of land that will serve important public objectives, including but not limited to, expansion of communities and economic development, which cannot be achieved prudently or feasibly on land other than public land. The sale of this land outweighs other public objectives and values, including, but not limited to, recreation and scenic values, which would be served by maintaining such tract in Federal ownership. The land is intermingled with State and private land. No significant resource values will be affected by this transfer.

In the event of a sale, conveyance will be made of surface interest only; the United States will retain all mineral rights. Any patent issued will contain the following numbered reservations, covenants, terms, and conditions:

The land will be conveyed with a reservation of a right-of-way to the United States for ditches and canals constructed by the authority of the United States pursuant to the Act of August 30, 1890 (43 U.S.C. 945).

All minerals, including coal, will be reserved to the United States with the right to prospect for or mine, and remove the minerals. The land will be conveyed subject to:

1. Valid existing rights-of-way and easements.

2. An appropriate indemnification clause protecting the United States from claims arising out of the lessees/patentee's use, occupancy, or operations on the leased/patented lands.

3. No warranty of any kind, express or implied, is given by the United States as to the title, physical condition, or potential uses of the parcel of land proposed for sale; and the conveyance of any such parcel will not be on a contingency basis. To the extent required by law, all such parcels are subject to the requirements of Section 120(h) of the Comprehensive Environmental Response, Compensation, and Liability Act, as amended (42 U.S.C. 9620(h)).

4. The patentee, by accepting the patent and covenants, agrees to indemnify, defend, and hold the United States harmless from any costs, damages, claims, causes of action, penalties, fines, liabilities, and judgments of any kind arising from the past, present, or future acts or omissions of the patentee, its employees, agents, contractor, or lessees, or any third party, arising out of, or in connection with, the patentee's use, occupancy or operations on the patented real property. This indemnification and hold harmless agreement includes, but is not limited to, acts and omissions of the patentee and its employees, agents, contractors or lessees, or any third party, arising out of or in connection with the use and/or occupancy of the patented real property that has already resulted or does hereafter result in: (1) Violations of Federal, State and local laws and regulations that are now, or may in the future, become applicable to the real property; (2) Judgments, claims, or demands of any kind assessed against the United States; (3) Costs, expenses, or damages of any kind incurred by the United States; (4) Releases or threatened releases of solid or hazardous waste(s) and/or hazardous substance(s) as defined by Federal or State environmental laws, off, on, into, or under land, property, and other interests of the United States; (5) Activities by which solids or hazardous substances or wastes, as defined by Federal and State environmental laws are generated, released, stored, used, or otherwise disposed of on the patented real property, and any cleanup response, remedial action, or other actions related in any manner to said solid or hazardous substance(s) or waste(s); or (6) natural resource damages as defined by Federal and State law. This covenant shall be construed as running with the patented real property and may be enforced by the United States in a court of competent jurisdiction.

Additional Information: Sealed bids shall be considered only if received at the BLM Rio Puerco Field Office, 435 Montaño NE., Albuquerque, New Mexico, by no later than 4:30 p.m., MST April 4, 2011. Bids must be made by the principal or his duly qualified agent. Each bid must include a completed sealed bid form and be accompanied by a certified check, money order, bank draft, or cashier's check made payable in U.S. dollars to the order of the BLM, for 10 percent of the amount of the bid. Bids must be for not less than the Federally approved FMV. Each bid shall be enclosed in a sealed envelope marked on the lower front left corner with the BLM Serial Number, NMNM 123371, and the sale date. In the event that two or more sealed bids are received containing valid bids of the same amount, the high bidders will be notified and allowed to submit additional sealed bids. If not sold, the lands described in this Notice may be identified for sale later without further legal notice and may be offered for sale by sealed bid or oral auction.

The highest qualifying bid received will be publicly declared the high bid and the high bidder will receive written notification by the authorized officer. The successful bidder must submit the remainder of the full bid price within 180 calendar days of the sale date in the form of a certified check, money order, bank draft, or cashier's check, made payable in U.S. dollars to the BLM. Personal checks will not be accepted. Failure to pay the full price within the 180 days will disqualify the apparent high bidder and cause the entire bid deposit to be forfeited to the BLM. If you were not declared the high bidder, your check will be returned to you at the sale upon proof of identification. If you do not attend the sale, your check will be returned according to your instructions.

Federal law requires all bidders to be United States citizens 18 years of age or older; a corporation subject to the laws of any State or of the United States; a State, State instrumentality, or political subdivision authorized to hold property; or an entity legally capable of conveying and holding lands or interests therein under the laws of the State of New Mexico. Certification of qualification, including citizenship, corporation or partnership, must accompany the bid deposit. The Certification of Qualification form is available at the BLM, Rio Puerco Field Office, 435 Montaño, NE., New Mexico 87107, or by calling (505) 761-8700.

To establish the fair market value for the subject public land through appraisal, certain assumptions have been made of the attitudes and limitations of the land and potential effects of local regulations and policies on potential future land uses.

Through publication of this Notice, the BLM gives notice that these assumptions may not be endorsed or approved by units of local government. It is the buyer's responsibility to be aware of all applicable local government policies, laws, and regulations that would affect the subject lands, including any required dedication of lands for public uses. It is also the buyer's responsibility to be aware of all existing or projected use of nearby properties. When conveyed out of Federal ownership, the lands will be subject to any applicable reviews and approvals by the respective unit of local government for proposed future uses, and any such reviews and approvals will be the responsibility of the buyer. Any land lacking access from a public road or highway will be conveyed as such and future access acquisition will be the responsibility of the buyer.

No warranty of any kind shall be given or implied by the United States as to the potential uses of the lands offered for sale. Furthermore, conveyance of the subject lands will not be on a contingency basis.

Termination of Segregation: On April 18, 2010, this parcel was segregated from appropriation under the public land laws, including the mining laws, except the sale provisions of the FLPMA. The segregative effect shall terminate upon issuance of patent or other document of conveyance to such lands, upon publication in the Federal Register of a termination of the segregation, or on April 11, 2011, whichever occurs first.

Public Comment: Interested parties may submit written comments, in letter format, regarding the proposed sale to the Field Manager, Rio Puerco Field Office, up to 45 days after publication of this Notice in the Federal Register. Facsimiles, e-mails and telephone calls are unacceptable means for the transmission of comments. Any adverse comments will be reviewed by the New Mexico BLM State Director, or other authorized official, who may sustain, vacate, or modify this realty action in whole or in part. In the absence of timely filed objections, this realty action will become the final determination of the Department of Interior. Any comments received during this process, as well as the commentor's name and address, will be available to the public in the administrative record and/or pursuant to a Freedom of Information Act request. You may indicate for the record that you do not wish to have your name and/or address made available to the public. Any determination by the BLM to release or withhold the names and/or addresses of those who comment will be made on a case-by-case basis. A request from a commentor to have their name and/or address withheld from public release will be honored to the extent permissible by law.

Authority: 43 CFR 2711.1-2.

Edwin Singleton,
District Manager.

[FR Doc. 2011-2361 Filed 2-2-11; 8:45 am]

BILLING CODE 4310-AG-P